DEPARTMENT OF ENERGY

Federal Energy Regulatory Commission

[Docket No. CP16-14-000]

Columbia Gas Transmission, LLC; Notice of Request Under Blanket Authorization

Take notice that on November 2, 2015, Columbia Gas Transmission, LLC (Columbia), pursuant to its blanket certificate authorization granted in Docket No. CP83-76-000,¹ filed an application in accordance to sections 157.205, 157.208, and 157.216(b) of the Commission's Regulations under the Natural Gas Act (NGA) as amended, requesting authority to abandon and construct certain pipeline facilities located in Fairfield County, Ohio. The proposed abandonment and construction are parts of Columbia's comprehensive modernization program to address its aging infrastructure, all as more fully set forth in the application which is on file with the Commission and open to public inspection.

¹ 22 FERC ¶ 62,029 (1983).

Columbia proposes to abandon in-place, as well as replaces a portion of Line G that was originally constructed in 1902, and to abandon in-place Line G-137. These sections of Line G and Line G-137 pipelines consist of 13.57 miles and 1.31 miles, respectively, of 4-, 6-, and 8-inch diameter bare steel pipe. The existing pipelines will be abandoned in-place without earth disturbance and Columbia will retain the easement rights. Also, a 5,000 foot section at the end of Line G from Pleasantville valve to the Gatherco point of receipt will be replaced with a 4-inch diameter plastic pipe to maintain service from Gatherco. The new 4-inch diameter plastic Line G pipeline will be installed within Columbia's existing right-of-way at a 15-foot offset to the east of the existing Line G pipeline. The reduction in pipeline diameter will have no adverse impact on Columbia's ability to meet operational needs and firm commitment on this pipeline. The proposed abandonment will have no impact on the services presently provided by Columbia. Continuity of service to the affected consumers will be maintained by converting them to an alternate energy source. Columbia does not propose abandonment of any tariff-based interstate gas transportation service when it abandons the proposed facilities.

Any questions concerning this application may be directed to Tyler R. Brown, Senior Counsel, Columbia Gas Transmission, LLC, 5151 San Felipe, Suite 2500, Houston, Texas 77056, or by phone at (713) 386-3797.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages interveners to file electronically.

Pursuant to section 157.9 of the Commission's rules, 18 CFR 157.9, within 90 days of this Notice, the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Dated: November 9, 2015.
Nathaniel J. Davis, Sr.,
Deputy Secretary.

[FR Doc. 2015-29149 Filed 11-13-15; 8:45 am]

BILLING CODE 6717-01-P